DEPARTMENT OF ENERGY

Federal Energy Regulatory Commission

[Docket No. AD07-7-000]

Conference on Competition in Wholesale Power Markets; Notice of Conference

January 9, 2007.

Take notice that on February 27, 2007, the first in a series of conferences will be held at the Federal Energy Regulatory Commission (Commission) to examine the state of competition in wholesale power markets. The first conference will be held from 9 a.m. to 4 pm (EST) at the Federal Energy Regulatory Commission, 888 First Street, NE., Washington, DC 20426, in the Commission Meeting Room. All interested persons are invited to attend. A further notice with a detailed agenda will be issued in advance of the conference.

A free webcast of this event will be available through http://www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit http://www.CapitolConnection.org or contact Danelle Perkowski or David Reininger at 703-993-3100.

Commission conferences are accessible under section 508 of the Rehabilitation Act of 1973. For accessibility accommodations please send an e-mail to accessibility@ferc.gov or call toll free 1-866-208-3372 (voice) or 202-208-1659 (TTY), or send a FAX to 202-208-2106 with the required accommodations.

For more information about this conference, please contact: Moon Paul, Esq., Office of the General Counsel—Energy Markets, Federal Energy Regulatory Commission, 888 First Street, NE., Washington, DC 20426. (202) 502-6136, Moon.Paul@ferc.gov.

Magalie R. Salas,
Secretary.

[FR Doc. E7-449 Filed 1-12-07; 8:45 am]

BILLING CODE 6717-01-P